DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0086).

SUMMARY: To comply with the Paperwork Reduction Act of 1995 (PRA), we are submitting to OMB for review and approval an information collection request (ICR), titled “30 CFR 250, Subpart P, Sulphur Operations.” We are also soliciting comments from the public on this ICR.

DATES: Submit written comments by August 6, 2001.

ADDRESSES: You may submit comments directly to the Office of Information and Regulatory Affairs, OMB, Attention: Desk Officer for the Department of the Interior (1010-0086), 725 17th Street, NW., Washington, DC 20503. Mail or hand carry a copy of your comments to the Department of the Interior, Minerals Management Service, Attention: Rules Processing Team, Mail Stop 4024, 381 Elden Street; Herndon, Virginia 20170-4817. If you wish to e-mail comments, the e-mail address is: rules.comments@mms.gov. Reference “Information Collection 1010-0086” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR 250, Subpart P, Sulphur Operations.

OMB Control Number: 1010-0086.

Abstract: The Outer Continental Shelf (OCS) Lands Act (43 U.S.C. 1331 et seq.), as amended, requires the Secretary of the Interior (Secretary) to preserve, protect, and develop sulphur resources on the OCS; make such resources available to meet the Nation's energy needs as rapidly as possible; balance orderly energy resources development with protection of the human, marine, and coastal environments; ensure the public a fair and equitable return on the resources offshore; and preserve and maintain free enterprise competition. Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to MMS under which we issue regulations to ensure that operations in the OCS will meet statutory requirements; provide for safety and protection of the environment; and result in diligent exploration, development, and production of OCS leases. This information collection request addresses the regulations at 30 CFR 250, subpart P, Sulphur Operations, and the associated supplementary notices to lessees and operators intended to provide clarification, description, or explanation of these regulations.

MMS uses the information collected to ascertain the condition of drilling sites for the purpose of preventing hazards inherent in drilling and production operations and to evaluate the adequacy of equipment and/or procedures to be used during the conduct of drilling, well-completion, well-workover, and production operations. For example, MMS uses the information to:

• Ascertain that a discovered sulphur deposit can be classified as capable of production in paying quantities.

• Ensure accurate and complete measurement of production to determine the amount of sulphur royalty payments due the United States; and that the sale locations are secure, production has been measured accurately, and appropriate follow-up actions are initiated.

• Ensure that the drilling unit is fit for the intended purpose.

• Review expected oceanographic and meteorological conditions to ensure the integrity of the drilling unit (this information is submitted only if it is not otherwise available).

• Review hazard survey data to ensure that the lessee will not encounter geological conditions that present a hazard to operations.

• Ensure the adequacy and safety of firefighting plans.

• Ensure the adequacy of casing for anticipated conditions.

• Review log entries of crew meetings to verify that crew members are properly trained.

• Review drilling, well-completion, and well-workover diagrams and procedures to ensure the safety of the proposed drilling, well-completion, and well-workover operations.

• Review production operation procedures to ensure the safety of the proposed production operations.

• Monitor environmental data during operations in offshore areas where such data are not already available to provide a valuable source of information to evaluate the performance of drilling rigs under various weather and ocean conditions. This information is necessary to make reasonable determinations regarding safety of operations and environmental protection.

Responses are mandatory. No questions of a “sensitive” nature are asked. MMS will protect proprietary information according to the Freedom of Information Act (5 U.S.C. 552) and its implementing regulations (43 CFR 2), 30 CFR 250.196 (Data and information to be made available to the public), and 30 CFR part 252 (OCS Oil and Gas Information Program).

Frequency: The frequency varies by section, but is generally “on occasion”.

Estimated Number and Description of Respondents: Approximately 1 Federal OCS sulphur lessee.

Estimated Annual Reporting and Recordkeeping “Hour” Burden: The following chart details the components of the hour burden for the information collection requirements in subpart P—an estimated total of 903 burden hours. In estimating the burdens, we assumed that respondents perform certain requirements in the normal course of their activities. We consider these to be usual and customary and took that into account in estimating the burden.

Citation 30 CFR 250 subpart P | Reporting or recordkeeping requirement | Hour burden per requirement
Reporting Requirements
1600 | Submit exploration or development and production plan according to 30 CFR 250, subpart B | Burden included in 1010-0049.
1603(a) | Request determination whether sulphur deposit can produce in paying quantities | 1 hour.
1605(b)(3) | Submit data and information on fitness of drilling unit | 4 hours.
1605(c) | Report oceanographic, meteorological, and drilling unit performance data upon request | 1 hour.
1605(d) | Submit results of additional surveys and soil borings upon request | 1 hour.
1605(e)(5) | Request copy of directional survey (by holder of adjoining lease) | 1 hour.
1605(f) | Submit application for installation of fixed drilling platforms or structures according to 30 CFR subpart I | Burden included in 1010-0058.
1607 | Request establishment, amendment, or cancellation of field rules for drilling, well-completion, or well-workover | 8 hours
1608 | Submit well casing and cementing plan or modification | 5 hours.
16010(d)(8) | Request exception to ram-type blowout preventer (BOP) system components rated working pressure | 1 hour.
1611(b); 1625(b) | Request exception to water-rated working pressure to test ram-type and annular BOPs and choke manifold | 1 hour.
1611(f); 1625(f) | Request exception to recording pressure conditions during BOP tests on pressure charts * | 1 hour.
1612 | Request exception to § 250.408 requirements for well-control drills * | 1 hour.
1615 | Request exception to blind-shear ram or pipe rams and inside BOP to secure wells | 1 hour.
1610(d)(8); 1611(b), (f); 1615; 1617; 1618; 1619(b); 1622; 1625(b), (f); | Submit forms MMS-123 (Application for Permit to Drill), MMS-124 (Sundry Notices and Reports on Wells), Form MMS-125 (Well Summary Report). Submissions include various exceptions and approvals required in subpart P | Burden included in 1010-0044, 1010-0045, and 1010-0046.
1612 | Request exception to § 250.408 requirements for well-control drills | 1 hour.
1619(c), (d), (e) | Submit copies of records, logs, reports, charts, etc., upon request | 1 hour.
1628(b), (d) | Submit application for design and installation features of sulphur production facilities and fuel gas safety system; certify new installation conforms to approved design | 4 hours.
1629(b)(3) | Request approval of firefighting systems | 4 hours.
1630(a)(5) | Notify MMS of pre-production test and inspection of safety system and commencement of production | ½ hour.
1633(b) | Submit application for method of production measurement | 2 hours.
1634(b) | Report evidence of mishandling of produced sulphur or tampering or falsifying any measurement of production | 1 hour.
1600 thru 1634 | General departure and alternative compliance requests not specifically covered elsewhere in subpart P regulations | 2 hours.
Recordkeeping Requirements
1604(f) | Check traveling-block safety device for proper operation weekly and after each drill-line slipping; enter results in log | ¼ hour.
1609(a) | Pressure test casing; record time, conditions of testing, and test results in log | 2 hours.
1611(d)(3); 1625(c)(3) | Record in driller's report the date, time, and reason for postponing pressure testings | 10 minutes
1611(f), (g); 1625(f), (g) | Conduct tests, actuations, inspections, maintenance, and crew drills of BOP systems at least weekly; record results in driller's report; retain records for 2 years following completion of drilling activity | 6 hours.
1613(e) | Pressure test diverter sealing element/valves weekly; actuate diverter sealing element/valves/control system every 24 hours; test diverter line for flow every 24 hours; record test times and results in driller's report | 2 hours.
1616(c) | Retain training records for lessee and drilling contractor personnel according to 30 CFR 250, included subpart O | Burden in 1010-0128.
1619(a) | Retain records for 2 years for each well and all well operations | 12 hours.
1621 | Conduct safety meetings prior to well-completion or well-workover operations; record date/time | 1 hour.
1628(d) | Maintain information on approved design and installation features for the life of the facility | 1 hour.
1629(b)(1)(ii) and (iii) | Retain for 2 years pressure-recording charts used to determine operating pressure ranges; post firefighting system diagram | 12 hours.
1630(b) | Retain records for 2 years for each safety device installed | 1 hour.
1631 | Conduct safety device training prior to production operations and periodically thereafter; record date/time | 1 hour.

Estimated Annual Reporting and Recordkeeping “Non-H Cost” Burden: We have identified no “non-hour cost” burdens.

Comments: Section 3506(c)(2)(A) of the PRA (44 U.S.C.q 3501, et seq.) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 8, 2001, we published a Federal Register notice (66 FR 13956) announcing that we would submit this ICR to OMB for approval. The notice provided the required 60-day comment period. In addition, § 250.199 displays the OMB control numbers for the information collection requirements imposed by the 30 CFR part 250 regulations and forms; specifies that the public may comment at anytime on these collections of information; and provides the address to which they should send comments. We have received no comments in response to these efforts.

If you wish to comment in response to this notice, send your comments directly to the offices listed under the ADDRESSES section of this notice. The OMB has up to 60 days to approve or disapprove the information collection but may respond after 30 days. Therefore, to ensure maximum consideration, OMB should receive public comments by August 6, 2001. The PRA provides that an agency may not conduct or sponsor, and a person is not required to respond to, a collection of information unless it displays a currently valid OMB control number.

MMS Information Collection Clearance Officer: Jo Ann Lauterbach, (202) 208-7744.

Dated: May 24, 2001.
John V. Mirabella,
Acting Chief, Engineering and Operations Division.

[FR Doc. 01-16969 Filed 7-5-01; 8:45 am]

BILLING CODE 4310-MR-P ]